DEPARTMENT OF ENERGY

Federal Energy Regulatory Commission

[Project No. 2539-003]

Erie Boulevard Hydropower LP; Notice of Availability of Final Environmental Assessment

September 28, 2001.

In accordance with the National Environmental Policy Act of 1969 and the Federal Energy Regulatory Commission's (Commission's) regulations, 18 CFR Part 380 (Order No. 486, 52 FR 47897), the Office of Energy Projects has reviewed the application for a new license for the School Street Project located in Albany and Saratoga counties, New York, and has prepared a Final Environmental Assessment (FEA) for the project. In the FEA, the Commission's staff has reviewed the comments on its November 20, 1996 Draft Environmental Assessment and analyzed the potential environmental impacts of the existing project. The FEA concludes that approval of the project, with appropriate environmental protection or enhancement measures, would not constitute a major federal action significantly affecting the quality of the human environment.

Copies of the FEA are available for review in the Public Reference and Files Maintenance Branch, Room 2A of the Commission's offices at 888 First Street, NE., Washington, DC 20426. Copies of this filing are on file with the Commission and are available for public inspection. The FEA may also be viewed on the web at http://www.ferc.gov using the “RIMS” link, select “Docket#” and follow the instructions (call 202-208-2222 for assistance).

For further information, please contact Timothy J. Welch at (202) 219-2666.

Linwood A. Watson, Jr.,
Acting Secretary.

[FR Doc. 01-24893 Filed 10-3-01; 8:45 am]

BILLING CODE 6717-01-P